DEPARTMENT OF COMMERCE

Foreign-Trade Zones Board

[B-86-2012]

Foreign-Trade Zone 38—Spartanburg County, South Carolina; Notification of Proposed Production Activity; ZF Transmissions Gray Court, LLC, (Automatic Transmissions), Gray Court, SC

The South Carolina State Ports Authority, grantee of FTZ 38, submitted a notification of proposed production activity on behalf of ZF Transmissions Gray Court, LLC (ZFTGC), located in Gray Court, South Carolina. The notification conforming to the requirements of the regulations of the Foreign-Trade Zones Board (15 CFR § 400.22) was received on November 8, 2012.

The ZFTGC facility is located within Site 20 of FTZ 38. The facility is used for the production of automatic transmissions for motor vehicles. Production under FTZ procedures could exempt ZFTGC from customs duty payments on the foreign status components and materials used in export production. On its domestic sales, ZFTGC would be able to choose the duty rate during customs entry procedures that applies to automatic transmissions (2.5%) for the foreign status inputs noted below. The company would be exempt from customs duty payments on foreign components used in the production of automatic transmissions that would be shipped to auto assembly plants operating under FTZ authority. Customs duties also could possibly be deferred or reduced on foreign status production equipment.

Components and materials sourced from abroad include: control units, pumps, housings, parts of gear boxes and transmissions, valves, accumulators, lock discs, magnetic rings, gears, clutches, o-rings, seal rings, bushings, snap rings, and bearings (duty rate ranges from free to 3.8%).

Public comment is invited from interested parties. Submissions shall be addressed to the Board's Executive Secretary at the address below. The closing period for their receipt is January 7, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: November 23, 2012.
Elizabeth Whiteman,
Acting Executive Secretary.

[FR Doc. 2012-28847 Filed 11-27-12; 8:45 am]

BILLING CODE P